DEPARTMENT OF HOMELAND SECURITY

Coast Guard

33 CFR Part 117

[CGD07-06-204]

RIN 1625-AA09

Drawbridge Operation Regulation; Atlantic Intracoastal Waterway Mile 1072.2, Hollywood, Broward County, FL

AGENCY: Coast Guard, DHS.

ACTION: Temporary final rule.

SUMMARY: The Coast Guard is temporarily changing the regulation governing the operation of the Hollywood Boulevard Drawbridge across the Atlantic Intracoastal Waterway mile 1072.2, Hollywood, Broward County, Florida, due to repair work on the bridge. This rule will provide for worker and mariner safety during the repairs to this drawbridge. The drawbridge will be on single-leaf operations during most of the repair period and several waterway closures will be needed.

DATES: This rule is effective from October 3, 2006 to July 27, 2007.

ADDRESSES: Documents indicated in this preamble as being available in the docket are part of docket CGD07-06-204 and are available for inspection or copying at Commander (dpb), Seventh Coast Guard District, 909 SE 1st Ave., Ste 432 Miami, Florida 33131-3050 between 7:30 a.m. and 4 p.m., Monday through Friday, except Federal holidays.

FOR FURTHER INFORMATION CONTACT: Mr. Michael Lieberum, Seventh Coast Guard District, Bridge Branch, (305) 415-6744.

SUPPLEMENTARY INFORMATION:

Regulatory Information

We did not publish a notice of proposed rulemaking (NPRM) for this regulation. Under 5 U.S.C. 553(b)(B), the Coast Guard finds that good cause exists for not publishing an NPRM. Publishing an NPRM is contrary to the public interest because the rule is needed to provide for worker and marine safety during repairs to the drawbridge. Also, this temporary final rule provides provisions for vessels to transit through the area except during short waterway closure periods.

Under 5 U.S.C. 553(d)(3), the Coast Guard finds that good cause exists for making this rule effective less than 30 days after Federal Register publication. This rule provides for scheduled drawbridge openings and provisions for vessels to transit through the drawbridge except during short waterway closure periods and provides for the safety of the public and mariners during the scheduled repair period.

Background and Purpose

The Florida Department of Transportation notified the Coast Guard on February 4, 2006, that the current operation of the Hollywood Boulevard Drawbridge, Intracoastal Waterway mile 1072.2, Hollywood, Broward County, Florida, would need to be changed to allow for extensive repairs. However, the construction repair contractor did not provide the repair schedule dates to the Coast Guard until August 4, 2006, at which time repairs to the bridge had already begun. Therefore, there was not enough time to publish an NPRM.

The drawbridge will be required to only open a single-leaf twice an hour. A double-leaf opening will be available, except on some dates and times. The waterway will be closed for short periods to allow for the reconstruction of portions of the drawbridge. Exact times and dates of waterway closures and drawbridge restrictions will be published in the Local Notice to Mariners and Broadcast Notice to Mariners. In cases of emergency, the drawbridge will be opened as soon as possible.

Discussion of Rule

The draw of the Hollywood Boulevard drawbridge shall open a single-leaf on the hour and half-hour. Double-leaf operations shall be available during certain periods. Waterway closures shall be authorized by the Captain of the Port Miami as needed and will be published in the Local Notice to Mariners and Broadcast Notice to Mariners. The draw shall open as soon as possible for the passage of tugs with tows, public vessels of the United States and vessels in a situation where a delay would endanger life or property.

Regulatory Evaluation

This rule is not a “significant regulatory action” under section 3(f) of Executive Order 12866, Regulatory Planning and Review, and does not require an assessment of potential costs and benefits under section 6(a)(3) of that Order. The Office of Management and Budget has not reviewed it under that Order.

The Coast Guard expects the economic impact of this rule to be so minimal that a full Regulatory Evaluation is unnecessary, because the rule will allow for bridge openings during the repairs to this drawbridge and all closure times will be published with adequate time for mariners to plan accordingly.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities, because the regulations provide for drawbridge openings, short closure periods and will provide for the reasonable needs of navigation.

This rule will affect the following entities, some of which may be small entities: the owners or operators of vessels intending to transit the Atlantic Intracoastal Waterway under the Hollywood Boulevard drawbridge from October 3, 2006 to July 27, 2007.

Assistance for Small Entities

Under section 213(a) of the Small Business Regulatory Enforcement Fairness Act of 1996 (Pub. L. 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e) of the Instruction, from further environmental documentation. Under figure 2-1, paragraph (32)(3), of the Instruction, and “Environmental Analysis Check List” and “Categorical Exclusion Determination” are not required for this rule.

List of Subjects in 33 CFR Part 117

Bridges.

Regulations

For the reasons discussed in the preamble, the Coast Guard amends 33 CFR part 117 as follows:

PART 117—DRAWBRIDGE OPERATION REGULATIONS

1. The authority citation for part 117 continues to read as follows:

Authority: 33 U.S.C. 499; Department of Homeland Security Delegation No. 0170.1; 33 CFR 1.05-1(g); section 117.255 also issued under the authority of Pub. L. 102-587, 106 Stat. 5039.

2. From 7 a.m. on October 3, 2006 to 7 p.m. on July 27, 2007, Sec. 117.261(bb)(11) is suspended and new paragraph (bb)(13), is added to read as follows:

§ 117.261 Atlantic Intracoastal Waterway from St. Mary's River to Key Largo.

* * * * *

(bb)(13) Hollywood Beach Boulevard (SR 820) bridge, mile 1072.2 at Hollywood. The draw shall open a single-leaf on the hour and half-hour. A double-leaf shall be available with two hours advance notice to the bridge tender, except during certain time periods to be published in the Local Notice to Mariners. Waterway closures will be published in the Local Notice to Mariners as needed.

* * * * *

Dated: September 21, 2006.
J.A. Watson,
Captain, U.S. Coast Guard, Commander, Seventh Coast Guard District Acting.

[FR Doc. E6-16275 Filed 10-2-06; 8:45 am]

BILLING CODE 4910-15-P